DEPARTMENT OF HEALTH AND HUMAN SERVICES

Office of Inspector General

Program Exclusions: May 2003

AGENCY: Office of Inspector General, HHS.

ACTION: Notice of program exclusions.

During the month of May 2003, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ABBAS, SYED MOHAMMAD | 06/19/2003
JAMAICA, NY
ACOSTA, ARACELIS C | 06/19/2003
MIAMI, FL
ALEXANDER, GWENDOLYN | 06/19/2003
CHICAGO, IL
ALVAREZ, PAULA V | 06/19/2003
MIAMI, FL
ALVAREZ, JUAN U | 06/19/2003
MIAMI, FL
AVERILL, JERRY | 06/19/2003
MARION, IL
BRAACK, FORREST H | 06/19/2003
ROCHESTER, MN
BULLOCK, JOHN III | 06/19/2003
ST LOUIS, MO
BURGESS, KATHERINE COOK | 06/19/2003
GILBERT, SC
CADSAWAN, IRENEO | 06/19/2003
WESTLAKE, OH
CAMACHO, AUBREY A | 06/19/2003
FORSYTH, GA
CANNADY, DORIS | 06/19/2003
FLORISSANT, MO
CARADINE, LAVAUGHN | 06/19/2003
ERRE HAUTE, IN
CASTALLANO, TOMETA | 06/19/2003
ROCHESTER, NY
CHAVEZ, ESPERANZA | 06/19/2003
MIAMI, FL
COHEN, TEDDY ALAN | 06/19/2003
LAS VEGAS, NV
COHEN, ALAN STUART | 06/19/2003
WILLIAM ISLAND, FL
COJOE, VAUCHEL KIM | 06/19/2003
NEW ORLEANS, LA
CORIATY, EHAB | 06/19/2003
WHITE DEER, PA
COURTNEY, ROBERT RAY | 06/19/2003
GREENVILLE, IL
COURTNEY PHARMACY, INC | 06/19/2003
GREENVILLE, IL
CPM CORPORATION | 06/19/2003
COLUMBIA, MD
CUNNINGHAM, DEAN SCOTT | 06/19/2003
LEWISBURG, PA
DACOSTA, JANICE MARIA | 06/19/2003
OPA LOCKA, FL
DAVIS, JAMES M | 06/19/2003
N MIAMI, FL
DAVTYAN, ANDRANIK | 06/19/2003
GLENDALE, CA
DENMAN, STEPHANIE ROSE | 06/19/2003
NEWTON, IA
DILAKYAN, GEGANUSH | 06/19/2003
SUN VALLEY, CA
DIRECTO, JON EDWIN | 06/19/2003
LOS ANGELES, CA
ETO, CARLTON | 06/19/2003
KANEOHE, HI
FARRAR, FREDERICK R | 06/19/2003
MESA, AZ
FRIEDMAN, MICHAEL ALLEN | 06/19/2003
BROKEN ARROW, OK
GIL, FREDRICK G | 06/19/2003
GARDEN GROVES, CA
GOFF, GERALD ARTHUR | 06/19/2003
COLUMBIA, SC
GOLI, RAJITHA | 06/19/2003
PEKIN, IL
GREEN, JAMES W | 06/19/2003
LOUISVILLE, KY
HALL, GEORGANN B | 06/19/2003
LEWIS CENTER, OH
HAVERTY, CONSTANCE MAUREEN | 06/19/2003
PORTLAND, OR
HENEGAR, DIANE | 06/19/2003
CINCINNATI, OH
HOLMES, KEISHA C | 06/19/2003
WASHINGTON, DC
HORAN, KIMBERLY KAY | 06/19/2003
MCALESTER, OK
HUNTEMAN, DENISE MEREDITH | 06/19/2003
GREELEY, CO
HUSKINSON, KENNETH D | 06/19/2003
BURLEY, ID
IACONO, CANELA | 06/19/2003
HIALEAH, FL
JOHNSON, SANDRA MARIE | 06/19/2003
GRAND MEADOW, MN
KALFUS, DENIS HERBERT | 06/19/2003
WASHINGTON TWNSHP, NJ
L & Z CORPORATION | 06/19/2003
W ORANGE, NJ
LOPEZ, ADOLFO J | 06/19/2003
MIAMI, FL
M & G LIVERY & TRANSPORTATION | 06/19/2003
W ORANGE, NJ
MAKKI, MUSTAFA O | 06/19/2003
BUTNER, NC
MELCHIOR, STACY LYNN | 06/19/2003
ARVADA, CO
MURRAY, HARRY LYNN | 06/19/2003
LONG BEACH, CA
NGANDJUI, ANTOINE | 06/19/2003
MINERSVILLE, PA
O'BRIEN, PAUL EUGENE | 06/19/2003
FORT LAUDERDALE, FL
OSTAD, MOSHE | 06/19/2003
ROSLYN, NY
PARK, DAVID MIN | 06/19/2003
TAFT, CA
PARSONS, JAMES THEODORE | 06/19/2003
BEAUMONT, TX
PINTADO-GARCIA, IGNACIO | 06/19/2003
EGLIN AFB, FL
PINTADO-GARCIA, ISIDORO | 06/19/2003
YAUCO, PR
POWERS, ERIC JAMES | 06/19/2003
LA BELLE, FL
PROVO, BENJAMIN EARL | 06/19/2003
DELANO, CA
RANDOLPH, RICHARD A | 06/19/2003
MIDDLETOWN, NY
RANKIN, RAYNELL | 06/19/2003
NEW ORLEANS, LA
RENFRO, AUGUSTUS LAWSON JR | 06/19/2003
CANON CITY, CO
RICE, LISA KAY | 06/19/2003
WILLS POINT, TX
ROACH, KENDRA A | 06/19/2003
CARNESVILLE, GA
ROFFMAN, JAY RONNIE | 06/19/2003
ORLANDO, FL
SARAOS, NESTOR W | 06/19/2003
LOS ANGELES, CA
SCEARCE, ROSANNA ELAINE | 06/19/2003
LIVINGSTON, TX
SOIL, VALERIE DENISE | 06/19/2003
KANSAS CITY, MO
SPARKS, VIRGINIA DELORES | 06/19/2003
KINGMAN, AZ
SPINELLA, JOSEPH A | 06/19/2003
VENICE, FL
SREENIVASAN-GEIBEL, SHEILA | 06/19/2003
BOISE, ID
STRANGE, JONATHAN R | 06/19/2003
EASLEY, SC
SVERDLOV, GREGORY | 06/19/2003
LEESBURG, NJ
TAHA, MOHAMED A | 06/19/2003
GOLDSBORO, NC
TAYLOR, TENISHA MARIE | 06/19/2003
INGLEWOOD, CA
TAYLOR, LOIS ANN | 06/19/2003
DENVER, CO
TERSAKYAN, KHACHATUR | 06/19/2003
TAFT, CA
THOMPSON, ADRIANNE YVONNE | 06/19/2003
KNOXVILLE, TN
TOROSYAN, ANAIT | 06/19/2003
N HOLLYWOOD, CA
TURTURO, FRANK JAMES | 06/19/2003
MIAMI, FL
ULIBARRI, NANCY | 06/19/2003
ELLENSBURG, WA
VANDERGRIFF, DAVID VON | 06/19/2003
SURFSIDE BEACH, SC
WHELDEN, TIFFANI ANN | 06/19/2003
COMSTOCK, NY
WILEY, NELSON PAUL | 06/19/2003
PHILADELPHIA, PA
WOOTEN, WAYNE MAXSON | 06/19/2003
COLUMBIA, SC
WRIGHT, RAYMOND | 06/19/2003
BEDFORD, OH
YATROFSKY, STEVEN D | 06/19/2003
SANTA ANA, CA
FELONY CONVICTION FOR HEALTH CARE FRAUD
ACOSTA, CHRISTINA MARIA | 06/19/2003
PEORIA, AZ
ADAMS, JAIME LEE | 06/19/2003
CAPE MAY CT HOUSE, NJ
ANSELMO, CHARLES | 06/19/2003
PORT NEECHES, TX
BULL-CHAMBLISS, JEWELLE | 06/19/2003
ST PETERSBURG, FL
CASE, LISA MORRIS | 06/19/2003
FULTONDALE, AL
CATES, KILAH PETTY | 06/19/2003
HAYDEN, AL
CAVARETTA, KAREN | 06/19/2003
PITTSBURGH, PA
CLOUGH, CHRISTINE A | 06/19/2003
N OLMSTED, OH
DOONAN, GREGG C | 06/19/2003
MIDDLETON, MA
GARRITY, ROBERT J | 06/19/2003
LAKEWOOD, OH
GLADIEUX, MICHAEL SCOTT | 06/19/2003
PERRYSBURG, OH
HANEY, KANDY K | 06/19/2003
GREAT BEND, KS
HIGGINS, MAUREEN TERESA | 06/19/2003
MARBLEHEAD, MA
HOWARD, JENNIFER CATHERINE | 06/19/2003
TUCSON, AZ
JOHNSON, KIMBERLY R PURVIS | 06/19/2003
LEXINGTON, KY
MEEHAN, JOHN MICHAEL | 06/19/2003
HAMILTON, OH
MIDLICK, MICHELE M | 06/19/2003
COLUMBUS, OH
MORRISON, KELLY J | 06/19/2003
MESA, AZ
OLLIER, JO ANN | 06/19/2003
UNION, KY
PEARSON, KIMBERLY ANN | 06/19/2003
WAUKON, IA
RUIZ, CHRISTINA PALOMINO | 06/19/2003
TUCSON, AZ
SALVATI, PETER A | 06/19/2003
BREWSTER, MA
SAVRAN, STEVEN H | 06/19/2003
LAGUNA NIGUEL, CA
UHRINEK, JOSEPH M | 06/19/2003
ENOLA, PA
VERIZZO, ARLENE E | 06/19/2003
SARASOTA, FL
WAXLER, RICHARD M | 06/19/2003
COLUMBIA, MD
FELONY CONTROL SUBSTANCE CONVICTION
ALEXANDER, MARY JO | 06/19/2003
BIRMINGHAM, AL
BROOKS, STEPHANIE ANN | 06/19/2003
CHESAPEAKE, VA
CAUGHEY, MICHAEL | 06/19/2003
VIRGINIA BEACH, VA
CAZORLA, JUAN MIGUEL | 06/19/2003
SAN DIEGO, CA
COUP, KELLI | 06/19/2003
NORTH PORT, FL
DORFMAN, ALVIN | 06/19/2003
CINCINNATI, OH
EFFENBERGER, BOBBIE JEAN | 06/19/2003
DENVER, CO
FLEMING, JAMES E | 06/19/2003
BRATENAHL, OH
FONDREN, FRANK BURKETT | 06/19/2003
SILVERHILL, AL
GILL, ALYSON R | 06/19/2003
LAUREL SPRINGS, NJ
JOHNSON, JERRY LEE | 06/19/2003
FLORENCE, AZ
JONES, STEVEN DANIEL | 06/19/2003
YUCCA VALLEY, CA
JOSEY, WILLIE L | 06/19/2003
PORTSMOUTH, OH
LAFORGE, JOYCE | 06/19/2003
CROW AGENCY, MT
MORELOS, LISA A | 06/19/2003
TOMS RIVER, NJ
MORTON, DIANNE MARIE | 06/19/2003
LOGAN, OH
O'BRIEN, MICHAEL J | 06/19/2003
STEUBENVILLE, OH
ROSENBERG, LEONARD | 06/19/2003
WINTHROP, MA
STANDRIDGE, DARLENE | 06/19/2003
VENICE, FL
THOMPSON, DEBORAH A | 06/19/2003
CAMDEN, NJ
TOBACK, BARRY | 06/19/2003
EDGEWATER, NJ
TRIFTSHAUSER, CLARK G | 06/19/2003
ALBION, NY
VANCE, TERESA WALLACE | 06/19/2003
REMLAP, AL
WILLSON, CHARLES R | 06/19/2003
BERLIN CENTER, OH
WINTERHALTER, VICTORIA L | 06/19/2003
CINCINNATI, OH
WOOD, LIBBY M | 06/19/2003
BIRMINGHAM, AL
PATIENT ABUSE/NEGLECT CONVICTIONS
AMOAH, FAUSTINA | 06/19/2003
COLUMBUS, OH
BOGDANOFF, BRUCE M | 06/19/2003
WALLINGFORD, PA
CHEN, WEI TANG | 06/19/2003
BUCKLEY, WA
DELGADO, EDWIN ANTONIO | 06/19/2003
CALIPATRIA, CA
DUNN, CHARLES E | 06/19/2003
REDGRANITE, WI
DUNNING, ELIZABETH K | 06/19/2003
HENDERSONVILLE, NC
FREEDLANDER, DEAN GARY | 06/19/2003
SAN FRANCISCO, CA
FREEMAN, KATHRYN R | 06/19/2003
ELGIN, OK
GRUBB, TRAVIS ESTEN | 06/19/2003
MORENO VALLEY, CA
HAYES, KINTA MARIE | 06/19/2003
TOPEKA, KS
HURT, JAMES HOLLIS JR | 06/19/2003
STRINGTOWN, OK
KAHORO, JANE W | 06/19/2003
CLAYMONT, DE
LEONARD, DANIEL L | 06/19/2003
WARREN, ME
MCGOOKIN, ROGER BRIAN | 06/19/2003
FOUNTAIN VALLEY, CA
MOSELEY, APRIL DAWN | 06/19/2003
ARVADA, CO
MYERS, MARIE | 06/19/2003
DENMARK, SC
SANCHEZ, EDUARDO A | 06/19/2003
FLUSHING, NY
SCHAUERHAMER, ROBERT ALLAN | 06/19/2003
MINNEAPOLIS, MN
SMITH, TONEY O'NEAL | 06/19/2003
TUCSON, AZ
THOMAS, JULIANA PIERRETTE | 06/19/2003
ORLANDO, FL
THOMPSON, JACQUELINE | 06/19/2003
CINCINNATI, OH
WILTURNER, DAVID WAYNE | 06/19/2003
NEW IBERIA, LA
CONVICTION FOR HEALTH CARE FRAUD
HENDERSON, TWILA D | 06/19/2003
TANGENT, OR
JACOBS, DANIEL K | 06/19/2003
BLOOMFIELD, MI
CONVICTION-OBSTRUCTION OF AN INVESTIGATION
RENCHER, TAMLA
IDAHO FALLS, ID
LICENSE REVOCATION/SUSPENSION/SURRENDERED
ACOSTA, WENDY JEANNE | 06/19/2003
IDAHO FALLS, ID
ALFONE, SHEILA ANNE | 06/19/2003
PLYMOUTH, MA
BAILEY, JANE ANN | 06/19/2003
FORT WAYNE, IN
BARDOLPH, THOMAS RICHARD | 06/19/2003
RANCHO PALOS VERDES, CA
BARLOW, LILLY N | 06/19/2003
PHOENIX, AZ
BARTIS, SAMANTHA | 06/19/2003
HOLLIS, NH
BERNAS, PATRICIA | 06/19/2003
CHESTER, VA
BOXWELL, DAVID WARREN | 06/19/2003
COLCHESTER, CT
BRACCIA, JOSEPH L | 06/19/2003
REVERE, MA
BROWN, HARRY LEON JR | 06/19/2003
PHOENIX, AZ
BRUNS, MONTE TODD | 06/19/2003
PRIOR LAKE, MN
BRYANT, KIMBERLY ANN | 06/19/2003
ALTUS, OK
BUDNICHUK, ALFRED D | 06/19/2003
BEL AIR, MD
BURKE, KAREN M | 06/19/2003
HOLBROOK, MA
BUSER, KAREN JANE | 06/19/2003
MELBOURNE, FL
CALLAN, BRENT LEE | 06/19/2003
HINTON, OK
CALNAN, JEROME PETER | 06/19/2003
GLENDORA, CA
CALVELO, ARSENIO C JR | 06/19/2003
HOUSTON, TX
CASSELLI, MARIA GINA | 06/19/2003
MILFORD, CT
CHAUDHARI, DASHRATH D | 06/19/2003
CLEVELAND, TN
CHINETTI, STEPHEN E | 06/19/2003
SALEM, NH
CLAIRE, MICHELE RENA | 06/19/2003
CARTHAGE, TN
CLARK, MELISSA WILDER | 06/19/2003
KEOKEE, VA
CLARK, RENEE CATHERINE | 06/19/2003
ROCHESTER HILLS, MI
CLAUSEN, CHRISTOPH K | 06/19/2003
TUCSON, AZ
CLEMENT, RICHARD JOSEPH | 06/19/2003
LAKE CHARLES, LA
COCKRELL, DELLA FRANCES | 06/19/2003
LAMESA, TX
COHEN, ADRIAN M | 06/19/2003
SILVER SPRING, MD
CONLEY, DAVID JOSEPH | 06/19/2003
NORMAN, OK
COPELAND, DEBORAH SWINNEY | 06/19/2003
CHARLOTTE, NC
COPPEDGE, GEORGETTE E | 06/19/2003
COVINA, CA
COX, ALICIA | 06/19/2003
TEMPE, AZ
CRAFT, BRIDGETT JANE | 06/19/2003
OXFORD, AL
CRANE, KRISTIN ALEXANDRA | 06/19/2003
PHOENIX, AZ
CRIDDLE NISSON, DEENA MARIE | 06/19/2003
DOWNEY, ID
CROUCH, DONNA L | 06/19/2003
WASHINGTON, DC
CURTISS, JAMES RICHARD | 06/19/2003
MOBILE, AL
DAVIDSON, DANIEL GLEN | 06/19/2003
MALVERN, IA
DAVIDSON, SUSAN M | 06/19/2003
HOUMA, LA
DEGRAZIA, JANETTE ANN | 06/19/2003
POWAY, CA
DEROQUE, JENNIFER BETH | 06/19/2003
WALNUT CREEK, CA
DILLINGHAM, DALE EDWARD | 06/19/2003
O'FALLON, MO
DOBBS, COLLEEN AGNES | 06/19/2003
DUNCANVILLE, TX
DUVERNE, JEAN M | 06/19/2003
FT MYERS, FL
ECHELBERGER, MARY A | 06/19/2003
RICHMOND, VA
EDWARDS, THOMAS A | 06/19/2003
FT PIERCE, FL
ENGLISH, LORRIE ELIZABETH | 06/19/2003
THORNTON, CO
ERICKSON, BETH M | 06/19/2003
EDINA, MN
ESIGBONE, FREEBORN M | 06/19/2003
LEWISVILLE, TX
EVANS, MARK WILLIAM | 06/19/2003
INDIANAPOLIS, IN
EZIUKWU, CALLISTUS M | 06/19/2003
POWDER SPRINGS, GA
FAPPIANO, DEBORAH D | 06/19/2003
PORT CHARLOTTE, FL
FELLS, DEBORAH JEAN | 06/19/2003
PRATTVILLE, AL
FISHER, GAIL WELCH | 06/19/2003
MORRIS, CT
FLEET, RICHARD CHRISTOPHER | 06/19/2003
DAVIE, FL
FORD, LANE J | 06/19/2003
VIRGINIA BEACH, VA
FREEBURN, AGNES KATE | 06/19/2003
TUCSON, AZ
FRIEND, CHARLES W | 06/19/2003
PENNSAUKEN, NJ
GALLAGHER, KEITH J | 06/19/2003
PHOENIX, AZ
GIPSON, DAPHENEY | 06/19/2003
DENVER, CO
GLADNEY, SAMUEL LANGHORNE | 06/19/2003
SAGINAW, TX
GOFORTH, LAMONT R | 06/19/2003
PUEBLO, CO
GORDEN, CHRISTINE M | 06/19/2003
STUARTS DRAFT, VA
HACKBERT, WILLIAM JAMES | 06/19/2003
SAN DIEGO, CA
HALL, LINDA MAE | 06/19/2003
LOS ANGELES, CA
HANSEN, KAREN JEAN | 06/19/2003
PEACE VALLEY, MO
HANSHAW, EARL RAY | 06/19/2003
COCOA BEACH, FL
HARPER, JENNIFER R | 06/19/2003
WOODBURY, NJ
HARVEY, BERTHA BOWEN | 06/19/2003
NEW BERN, NC
HASLAM, CINDY R | 06/19/2003
JOHNSTON, IA
HASSELMAN, BRIAN T | 06/19/2003
ST MARY'S, PA
HAYNES, CHRIS E | 06/19/2003
TUCSON, AZ
HAYS, MARY ELIZABETH | 06/19/2003
DECATUR, AL
HEILBRUNN, HOWARD I | 06/19/2003
SAN DIEGO, CA
HERNANDEZ, GRACIELA DE LA GARZ | 06/19/2003
CALEXICO, CA
HICKS, RICKY | 06/19/2003
HACIENDA HGTS, CA
HILDENSTEIN, ROBERT JOHN | 06/19/2003
WOOD RIVER, IL
HOPPE, JACK C | 06/19/2003
EYOTA, MN
HOWELL, ZENITH Z | 06/19/2003
LOMA LINDA, CA
HUETT, KATHERINE ELIZABETH | 06/19/2003
BIRMINGHAM, AL
HUNT, LORRAINE TANGELLA | 06/19/2003
BOLIGEE, AL
ICO, LELITA ORIA | 06/19/2003
REDLANDS, CA
JOBE, JILL ALLISON JETER | 06/19/2003
LITTLE ROCK, AR
JOHNSON, MICHELLE | 06/19/2003
SAN BERNARDINO, CA
JOHNSON, BRIAN | 06/19/2003
PHOENIX, AZ
JONES, MILES JAMES ALFRED JR | 06/19/2003
LEE'S SUMMIT, MO
KARETA, SUSAN MARY | 06/19/2003
WESTFIELD, MA
KENDALL, TONY M | 06/19/2003
HANOVER, VA
KENT, ELIZABETH | 06/19/2003
W PALM BEACH, FL
KIRDY, ANGELA | 06/19/2003
PORT CHARLOTTE, FL
KOTSCH, SIMONE PAMELA | 06/19/2003
HUNTINGTON BCH, CA
LAMPKIN, MARILYN | 06/19/2003
PINE BLUFF, AR
LAUTENSCHLAGER, ANDREA | 06/19/2003
MESA, AZ
LEE, DEBBIE J | 06/19/2003
SAHUARITA, AZ
LEISSOO, VIRGINIA M | 06/19/2003
DENVER, CO
LEMIEUX, DAVID GERARO | 06/19/2003
TORRINGTON, CT
LEPKOWSKI, PHYLLIS R | 06/19/2003
PHOENIX, AZ
LEWIS, PAMELA G | 06/19/2003
PHOENIX, AZ
LOPEZ, EDWARD J | 06/19/2003
SAN DIEGO, CA
LUKE, MARY R | 06/19/2003
WILLCOX, AZ
LUSMAN, JULES M | 06/19/2003
LOS ANGELES, CA
LYONS, JULIE LYNNE | 06/19/2003
HESPERIA, CA
MACIAK, CYNTHIA A | 06/19/2003
ST LOUIS, MO
MADDEN, BERNADETTE ANN | 06/19/2003
HERRIN, IL
MAHAN, RONALD GENE | 06/19/2003
MESA, AZ
MARASCO, KAYE L | 06/19/2003
INDIANOLA, IA
MARTIN, RUTHE A | 06/19/2003
PASCAGOULA, MS
MARTIN, STEPHEN WEEDE | 06/19/2003
SPRINGERVILLE, AZ
MARTIN, VALERIE | 06/19/2003
APTOS, CA
MAY, WILLA D | 06/19/2003
LOUISA, KY
MEYER, KELLY ANN | 06/19/2003
SANTA BARBARA, CA
MILLER, NANCY J | 06/19/2003
DELTA, CO
MILLWARD, MONTY LEE | 06/19/2003
SLIGO, PA
MONROY, LORRAINE | 06/19/2003
PALM DESERT, CA
MUHAMMAD, LASONJI T | 06/19/2003
CHICAGO, IL
NGOMA, ANGELA ROBINSON | 06/19/2003
YOUNGSTOWN, OH
NICHOLS, LANA CAROL | 06/19/2003
LOUISVILLE, KY
NOLES, ROBIN CHERRY | 06/19/2003
PINSON, AL
OAKES, CECIL EVERETT JR | 06/19/2003
SAN RAFAEL, CA
PATTERSON, KATRINA VERNICE | 06/19/2003
NORFOLK, VA
PELAT, GARY MICHAEL | 06/19/2003
MONTGOMERY, AL
PELZMAN, DEBORAH LOUISE | 06/19/2003
DURANGO, CO
PEREZ, CHRISTINE | 06/19/2003
POMONA, CA
PERILLI, DONNA MARIE | 06/19/2003
DRACUT, MA
PULOS, GEORGE THOMAS | 06/19/2003
SAN FRANCISCO, CA
QUINONES, MARY E | 06/19/2003
TUCSON, AZ
RABIDEAU, MARTIN SCOTT | 06/19/2003
ARVADA, CO
RAULSOME, RUTH ANN | 06/19/2003
GROTON, CT
READ, MATTHEW J | 06/19/2003
MESA, AZ
REYES, ARISTEO | 06/19/2003
SANTA ANA, CA
REYNOLDS, ADA BARNES | 06/19/2003
HOUSTON, TX
RICE, REBECCA L GURLEY | 06/19/2003
HARTWELL, GA
RICHEY, JAMES CURTIS | 06/19/2003
BESSEMER, AL
RITTALL, LAURA JEAN | 06/19/2003
BOOTHBAY, ME
ROBERTS, LEA ANN | 06/19/2003
KNOXVILLE, TN
RODENBERG, CHRISTINA | 06/19/2003
PLANT CITY, FL
RODRIGUEZ, RAMON ROGELIO | 06/19/2003
VALENCIA, CA
ROESNER, ELIZABETH KAYE | 06/19/2003
FYFFE, AL
RUTLAND, ANDREW | 06/19/2003
ANAHEIM HILLS, CA
SALEH, SAEED | 06/19/2003
ORCHARD LAKE, MI
SANDERS, JULIANNE L | 06/19/2003
LOAMI, IL
SCHMIDT, PETE E JR | 06/19/2003
PITTSBURGH, PA
SCHNIPER, WYNNE CAROLINE | 06/19/2003
ODENVILLE, AL
SCHOOLER, SUSAN D | 06/19/2003
SCOTTSDALE, AZ
SEXTON, SARAH JANEEN | 06/19/2003
GALESBURG, IL
SHIH, HSIEN SHOU | 06/19/2003
ARCADIA, CA
SHUMWAY, JASON PHILIP | 06/19/2003
MORGANTOWN, KY
SIMON, JOLENE ANNETTE | 06/19/2003
TABLE ROCK, NE
SLOAN, JENNIFER J | 06/19/2003
CAMERON, MO
SMITH, VANCE E | 06/19/2003
LAKEWOOD, CO
SMITH, VIRGINIA A | 06/19/2009
FT MYERS, FL
SOMMERVILLE, TERRI RAE | 06/19/2003
KOUTS, IN
SPENCER, SHEILA R | 06/19/2003
SMITHS GROVE, KY
STETLER, ROBERT | 06/19/2003
GALAX, VA
STONE, KRYSTAL L | 06/19/2003
MONTROSE, CO
STRICKLAND, CINDY FONTAINE | 06/19/2003
TALLADEGA, AL
TAYLOR, KENNETH EDWARD | 06/19/2003
MONROVIA, CA
TAYLOR, SHANNON LYNN | 06/19/2003
NASHUA, NH
THOMPSON, JERRY E SR | 06/19/2003
PHILADELPHIA, PA
TIBBLES, JAY HAROLD | 06/19/2003
FONTANA, CA
TRIPP, JOAN CHRISTINE | 06/19/2003
OLATHE, CO
TURNAGE, KATHY J | 06/19/2003
DUNN, NC
VALLEE, CHERYL DENICE | 06/19/2003
NEW MILFORD, CT
VARA, JOY B | 06/19/2003
COLERAIN, NC
VINCENT, PATRICK | 06/19/2003
SANFORD, FL
VINCENT, ALICE F | 06/19/2003
HATTIESBURG, MS
VINCI, JUDITH | 06/19/2003
SPOTSWOOD, NJ
WACTOR, DONNA L | 06/19/2003
MONTCLAIR, NJ
WILKINSON, LISA MICHELE | 06/19/2003
PHOENIX, AZ
WILLIAMS, BETTY LOUISE CORTHAN | 06/19/2003
RIVERDALE, GA
WISE, APRIL DIONNE | 06/19/2003
BAY MINETTE, AL
WOOD, KIMBERLY A | 06/19/2003
PHOENIX, AZ
WORKMAN, DAWN R | 06/19/2003
LOUISVILLE, KY
WULFF, SHAWNNA JEAN | 06/19/2003
PHOENIX, AZ
YAZZIE, THOMASCITA | 06/19/2003
CHINLE, AZ
YOUNG, LANITA ANN | 06/19/2003
BIRMINGHAM, AL
ZUCHOWSKI, EDWARD MICHAEL | 06/19/2003
OMAHA, NE
FEDERAL/STATE EXCLUSION/SUSPENSION
BIRCH, AARON | 06/19/2003
LINCOLNWOOD, IL
LITTLEFIELD, SUSAN | 06/19/2003
CANOGA PARK, CA
RASH, WAYNE CHARLES | 06/19/2003
SAN BERNARDINO, CA
FRAUD/KICKBACKS
SHRUM, DALE G | 11/26/2002
PALM DESERT, CA
OWNED/CONTROLLED BY CONVICTED ENTITIES
BARTOB PHARMACY, INC | 06/19/2003
EDGEWATER, NJ
CENTRO EQUIPOS MEDICOS | 06/19/2003
YAUCO, PR
CHIROPRACTIC DIAGNOSTIC CARDIO | 06/19/2003
MIAMI, FL
DIAGNOSTIC CARDIOLINE | 06/19/2003
MIAMI, FL
DIAGNOSTIC RESEARCH LABORATORI | 06/19/2003
MIAMI, FL
EMERGENCY MANAGEMENT, INC | 06/19/2003
TUSCALOOSA, AL
EMERGENCY PHYSICIANS, P C | 06/19/2003
TUSCALOOSA, AL
EMERGI-CARE CLINIC, P C | 06/19/2003
TUSCALOOSA, AL
FIRST OPTION DIAGNOSTIC CTR | 06/19/2003
MIAMI, FL
FIRST OPTION MEDICAL CTR, INC | 06/19/2003
MIAMI, FL
JAMES D SPEER | 06/19/2003
CORPUS CHRISTI, TX
KRISTA DISCOUNT PHARMACY, INC | 06/19/2003
MIAMI, FL
ROBINSON INSTITUTE, INC | 06/19/2003
NEW YORK, NY
SOUTHERN INTEGRATED MEDICAL SV | 06/19/2003
YAUCO, PR
SUNSHINE CHIROPRACTIC CLINIC | 06/19/2003
SAN JOSE, CA
THE HERBERT ALDEN PROFESSIONAL | 06/19/2003
FT LAUDERDALE, FL
DEFAULT ON HEAL LOAN
BUAHIN, KWAME G | 05/07/2003
SACRAMENTO, CA

Dated: June 3, 2003.
Katherine B. Petrowski,
Director, Exclusions Staff, Office of Inspector General.

[FR Doc. 03-14634 Filed 6-10-03; 8:45 am]

BILLING CODE 4150-04-P